DEPARTMENT OF HEALTH AND HUMAN SERVICES

National Institutes of Health

National Cancer Institute; Amended Notice of Meeting

Notice is hereby given of a change in the meeting of the National Cancer Institute Special Emphasis, Panel SEP-1: NCI Clinical and Translational Cancer Research, February 7, 2024, 9:00 a.m. to February 7, 2024, 5:00 p.m., National Cancer Institute Shady Grove, 9609 Medical Center Drive, Room 7W108, Rockville, Maryland, 20850 which was published in the Federal Register on November 17, 2023, FR Doc. 2023-25490, 88 FR 80322.

This notice is being amended to change the meeting date from February 7, 2024, to February 20, 2024. The meeting location and time will stay the same. The meeting is closed to the public.

Dated: December 5, 2023.
Melanie J. Pantoja,
Program Analyst, Office of Federal Advisory Committee Policy.

[FR Doc. 2023-27069 Filed 12-8-23; 8:45 am]

BILLING CODE 4140-01-P